DEPARTMENT OF ENERGY

Bonneville Power Administration

Wallula Power Project

AGENCY: Bonneville Power Administration (BPA), Department of Energy (DOE).

ACTION: Notice of intent to prepare an Environmental Impact Statement (EIS).

SUMMARY: This notice announces BPA's intention to prepare a joint National Environmental Policy Act (NEPA)/State Environmental Policy Act (SEPA) EIS in cooperation with the State of Washington Energy Facility Site Evaluation Council (EFSEC) for an electrical interconnection including a new 29-mile 500-kilovolt (kV) transmission line associated with a proposed power plant. BPA is the lead Federal agency under NEPA and EFSEC is the lead Washington State agency under SEPA. The Wallula Power Project is a 1,300-megawatt (MW) generating station proposed by Newport Northwest, LLC (Newport Northwest) that would be located near Wallula in Walla Walla County, Washington. Newport Northwest has requested an interconnection and upgrade to BPA's transmission system that would allow firm power delivery to customers in the Pacific Northwest. BPA proposes to execute an agreement with Newport Northwest to provide the interconnection and firm power transmission.

ADDRESSES: To be placed on the project mailing list, including notification of proposed meetings, call toll-free 1-800-622-4520, name this project, and leave your complete name and address. To comment, call toll-free 1-800-622-4519; send an e-mail to the BPA Internet address comment@bpa.gov; or send a letter to Communications, Bonneville Power Administration—KC-7, P.O. Box 12999, Portland, Oregon 97212.

FOR FURTHER INFORMATION CONTACT: Thomas C. McKinney, Bonneville Power Administration—KEC-4, P.O. Box 3621, Portland, Oregon 97208-3621; toll-free telephone 1-800-282-3713; direct telephone 503-230-4749; or e-mail tcmckinney@bpa.gov. Additional information can be found at BPA's web site: www.bpa.gov.

SUPPLEMENTARY INFORMATION: The EIS will assess the environmental consequences of the proposed project, including:

• The interconnection agreement that BPA proposes with Newport Northwest;

• The construction and operation of the power plant;

• The construction and operation of a 5.9-mile, 20-inch-diameter gas line to tie into Pacific Gas & Electric (PG&E) Gas Transmission Northwest's (GTN) pipeline;

• The construction and operation of an interconnection consisting of 4.3 miles of 500-kV line plus a substation; and

• The construction and operation of a new 500-kV transmission line from the interconnection to the McNary switching station, roughly paralleling the existing 500-kV line from Lower Monumental Dam to McNary Dam.

Later this spring, an open house and public information meeting will be conducted by BPA, EFSEC, and Newport Northwest to discuss the project, associated BPA transmission interconnection and upgrades, and topics to be addressed in the EIS. At least two weeks' notice will be provided to interested parties concerning the time and location of this meeting.

After July 2001, one or more EIS scoping meetings will be held, and a 45-day comment period will be announced, during which affected landowners, concerned citizens, special interest groups, local governments, and any other interested parties are invited to comment on the scope of the proposed EIS. A 30-day notice of the meeting(s), including time and location, will be provided to interested persons. At the meeting(s), BPA and EFSEC will answer questions and accept oral and written comments.

Receiving comments from interested parties will assure that BPA and EFSEC address in the EIS the full range of issues and potentially significant impacts related to the proposed project. When completed, the Draft EIS will be circulated for review and comment, and BPA and EFSEC will hold at least one public comment meeting on the Draft EIS. BPA and EFSEC will consider and respond in the Final EIS to comments received on the Draft EIS.

Proposed Action. The Wallula Power Project would be a gas-fired combined-cycle plant with a nominal generating capacity of 1,300 MW. The plant site would be located on 175 acres of land that is zoned for industry and which is located on the east side of U.S. Highway 12, between the J.D. Simplot Feedlot and the Boise Cascade Wallula Mill.

Natural gas would be burned in a gas turbine engine, in which the expanding gases from combustion would turn the turbine's rotor, driving a generator to produce electrical energy. Hot exhaust from the gas turbine would be used to boil water, using a heat recovery steam generator (HRSG). Steam produced by the HRSG turns a steam turbine, that would connect to another generator, producing additional electrical energy.

Water would be required to generate steam and cool the steam process, as well as for sanitary uses. The proposed power plant would require an average water consumption rate of up to 6,000 gallons per minute, which would be supplied from various sources including an on-site well being developed by the Port of Walla Walla.

Water discharges, primarily consisting of blowdown from the cooling towers, would be regulated under a Washington Department of Ecology permit or through the use of onsite disposal methods.

The proposed Wallula Power Project would deliver electricity to the regional power grid through an interconnection and a new 500-kV transmission line paralleling the existing Lower Monumental-McNary transmission line. BPA would also modify the existing McNary Substation.

The power plant and the gas and power interconnections would be located within Walla Walla County, Washington. Approximately 7 miles of the new 500-kV transmission line would be located in Walla Walla County with the remaining 22 miles in Umatilla County, Oregon.

Responsibility for construction and operation of the new facilities is principally with Newport Northwest who would build and operate the power plant. However, the interconnection and the new 500-kV transmission line would be constructed under BPA's management, and BPA would be responsible for the operation and maintenance of these facilities. GTN would build and operate the proposed 5.9-mile gas pipeline that would supply fuel to the power plant.

Process to Date. BPA is the lead Federal agency for the joint NEPA/SEPA EIS, and EFSEC is the lead Washington State agency. EFSEC has already held open houses introducing the Wallula Power Project to interested parties in Walla Walla County. Subsequent to these meetings, BPA determined that a new 500-kV transmission line was necessary for firm power delivery on the existing transmission system. Newport Northwest will prepare an Application for Site Certification and submit it to EFSEC in July 2001. This initial application will address the Wallula Power Project in detail. BPA and EFSEC will conduct joint scoping meetings after receipt and preliminary review of the initial submission.

Alternatives Proposed for Consideration. Alternatives thus far identified for evaluation in the EIS are (1) the proposed actions, and (2) no action. Other alternatives may be identified through the scoping process.

Identification of Environmental Issues. EFSEC will prepare an EIS consistent with its responsibilities under Chapter 80.50 of the Revised Code of Washington and Chapter 197-11 of the Washington Administrative Code. BPA has determined in a System Impact Study requested by Newport Northwest that, for firm transmission service, the construction of 29 miles of 500-kV transmission line may be required. Such an action triggers a need for BPA to prepare an EIS. Therefore, BPA and EFSEC intend to prepare a joint NEPA/SEPA EIS addressing both the power plant and the associated electric power interconnection and transmission facilities. The principal issues identified thus far for consideration in the Draft EIS are (1) air quality impacts, (2) noise impacts from plant operation, (3) aesthetic and visual impacts, (4) socio-economic impacts, (5) wetlands and wildlife habitat impacts, and (6) cultural resource impacts. These issues, together with any additional significant issues identified through the scoping process, will be addressed in the EIS.

Issued in Portland, Oregon, on March 26, 2001.
Steven G. Hickok,
Acting Administrator and Chief Executive Officer.

[FR Doc. 01-8509 Filed 4-5-01; 8:45 am]

BILLING CODE 6450-01-P